DEPARTMENT OF TRANSPORTATION

Federal Highway Administration

Notice of Statute of Limitations on Claims; Notice of Final Federal Agency Actions on Proposed Highway in California

AGENCY: Federal Highway Administration (FHWA), DOT

ACTION: Notice of Limitation on Claims for Judicial Review of Actions by the California Department of Transportation (Caltrans), pursuant to 23 U.S.C. 327.

SUMMARY: The FHWA, on behalf of Caltrans, is issuing this notice to announce actions taken by Caltrans, that are final within the meaning of 23 U.S.C. 139(l)(1). The actions relate to a proposed project to replace the Mt. Vernon Avenue Bridge (State Bridge No. 54C-0066) over the Burlington Northern Santa Fe (BNSF) railroad facilities in the City of San Bernardino, County of San Bernardino, in the State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before January 29, 2012. If the Federal law that authorizes judicial review of a claim provides a time period of less than 180 days for filing such claim, then that shorter time period still applies.

FOR FURTHER INFORMATION CONTACT: For Caltrans: Aaron Burton, Senior Environmental Planner, Environmental Studies “B” Branch Chief, California Department of Transportation, District 8, Division of Environmental Planning, 464 West 4th Street, 6th Floor MS-821, San Bernardino, California 92401, available 8 a.m.-5 p.m. Monday through Friday, phone number (909) 383-2841 or e-mail: aaron_burton@dot.ca.gov.

SUPPLEMENTARY INFORMATION: Effective July 1, 2007, the Federal Highway Administration (FHWA) assigned, and the California Department of Transportation (Caltrans) assumed environmental responsibilities for, this project pursuant to 23 U.S.C. 327. Notice is hereby given that the Caltrans has taken final agency actions subject to 23 U.S.C. 139(l)(1) by issuing licenses, permits, and approvals for the following local assistance project in the State of California: The project will involve the removal of the existing bridge structure, construction of a new replacement of a new bridge structure, and improvements to bridge approaches and roadways in the project vicinity. The new replacement bridge will be 317.1 m (1,040 feet) long and 24.4 m (80 feet) wide with four 3.7-m (12-foot) lanes (two in each direction), a 1.2-m (4-foot)-wide median, and 2.4-m (8-foot)-wide shoulders. Sidewalks on each side of the new bridge would be 1.5 m (5 feet) wide and would meet ADA requirements for sidewalk width and slopes, including preservation of existing access directly from the bridge to the Santa Fe Depot and Metrolink Station. Concrete barrier railings (1.1 m [3.5 feet] high) topped with fencing (1.9 m [6.1 feet] high) would be provided on each side of the new bridge. The actions by the Federal agencies, and the laws under which such actions were taken, are described in the Final Environmental Assessment (EA) for the project, approved via issuance of a Finding of No Significant Impact (FONSI) issued on June 27, 2011, and in other documents in the FHWA project records. The EA, FONSI, and other project records are available by contacting Caltrans at the addresses provided above.

This notice applies to all Federal agency decisions as of the issuance date of this notice and all laws under which such actions were taken, including but not limited to:

1. General: National Environmental Policy Act (NEPA) of 1969 [42 U.S.C. 4321-4351]; Growth Related Effects on Environmental Resources: (40 CFR 1508.8); Federal Aid-Highway Act of 1970 [23 U.S.C. 109].

2. Relocations: Title VI of the Civil Rights Act of 1964 [42 U.S.C. 2000d, et seq.] Federal Uniform Relocation Assistance and Real Property Acquisition Policy Act of 1970 and Title 49 Code of Federal Regulations (CFR part 24).

3. Historic and Cultural Resources: Section 106 of the National Historic Preservation Act of 1966, as amended [16 U.S.C. 470], Historic Preservation (36 CFR part 800), Caltrans' responsibilities in regard to the Programmatic Agreement (23 CFR part 327).

4. Water: Clean Water Act; (Sections 303, 304, 401, 402, and 404); Safe Drinking Water Act.

5. Traffic and Transportation: Accessibility Policy and safe accommodation of pedestrians and bicyclists (23 CFR part 652) and (49 CFR part 27); Rehabilitation Act [29 U.S.C. 794].

6. Paleontology: Antiquities Act of 1906 [16 U.S.C. 431-433]; Federal-Aid Highway Act of 1956 [23 U.S.C. 305].

7. Hazardous Waste: Resource Conservation and Recovery Act of 1976 (RCRA); Comprehensive Environmental Response, Compensation and Liability Act of 1980 (CERCLA); Community Environmental Response Facilitation Act (CERFA) of 1992; Toxic Substances Control Act (TSCA); Occupational Safety & Health Act (OSHA)(Title 29 CFR part 1926); Federal Insecticide, Fungicide, and Rodenticide Act (FIFRA).

8. Clean Air Act, as amended in 1990 [42 U.S.C. 7401-7671]; (40 CFR 93.126 and 40 CFR 93.127).

9. Noise: (23 CFR part 772).

10. Wetlands and Other Waters: Clean Water Act (33 CFR part 1344)

11. Animal and Plant Species: Federal Endangered Species Act [16 U.S.C. 1531-1544]; Interagency Cooperation—Endangered Species (50 CFR part 402); Fish and Wildlife Coordination Act [16 U.S.C. 661-667(d)]; Migratory Bird Treaty Act [16 U.S.C. 703-712].

12. Executive Orders (EO) 12898 Federal Actions to Address Environmental Justice in Minority Populations and Low-Income Populations; EO 13166 Improving Access to Services for Persons with Limited English Proficiency; EO 12088 Federal Compliance with Pollution Control; EO 11990 Protection of Wetlands; EO 13112 Prevention and Control of Invasive Species.

(Catalog of Federal Domestic Assistance Program Number 20.205, Highway Planning and Construction. The regulations implementing Executive Order 12372 regarding intergovernmental consultation on Federal programs and activities apply to this program.)

Authority: 23 U.S.C. 139(l)(1).

Issued on: July 26, 2011.
Shawn E. Oliver,
South Team Leader, State Programs, Federal Highway Administration.

[FR Doc. 2011-19463 Filed 8-1-11; 8:45 am]

BILLING CODE 4910-RY-P